DEPARTMENT OF COMMERCE

Bureau of Economic Analysis

[Docket No. 150128089-5080-01]

XRIN 0691-XC037

BE-150: Quarterly Survey of Payment Card and Bank Card Transactions Related to International Travel

AGENCY: Bureau of Economic Analysis, Commerce.

ACTION: Notice of Reporting Requirements.

SUMMARY: By this Notice, the Bureau of Economic Analysis (BEA), Department of Commerce, is informing the public that it is conducting the mandatory survey titled Quarterly Survey of Payment Card and Bank Card Transactions Related to International Travel (BE-150). This survey is authorized by the International Investment and Trade in Services Survey Act.

SUPPLEMENTARY INFORMATION: This Notice constitutes legal notification to all United States persons (defined below) who meet the reporting requirements set forth in this Notice that they must respond to, and comply with, the survey. Reports are due 45 days after the end of each calendar quarter. This notice is being issued in conformance with the rule BEA issued in 2012 (77 FR 24373) establishing guidelines for collecting data on international trade in services and direct investment through notices, rather than through rulemaking. Additional information about BEA's collection of data on international trade in services and direct investment can be found in the 2012 rule, the International Investment and Trade in Services Survey Act (22 U.S.C. 3101 et seq.), and 15 CFR part 801. Survey data on international trade in services and direct investment that are not collected pursuant to the 2012 rule are described separately in 15 CFR part 801. The BE-150 survey forms and instructions are available on the BEA Web site at www.bea.gov/ssb.

Definitions

(a) Person means any individual, branch, partnership, associated group, association, estate, trust, corporation, or other organization (whether or not organized under the laws of any State), and any government (including a foreign government, the United States Government, a State or local government, and any agency, corporation, financial institution, or other entity or instrumentality thereof, including a government-sponsored agency).

(b) United States person means any person resident in the United States or subject to the jurisdiction of the United States.

(c) United States, when used in a geographic sense, means the 50 States, the District of Columbia, the Commonwealth of Puerto Rico, and all territories and possessions of the United States.

(d) Foreign person means any person resident outside the United States or subject to the jurisdiction of a country other than the United States.

Reporting

Who Must Report: (a) U.S. credit card companies and personal identification number (PIN)-based debit network companies that process payment and bank card transactions between U.S. cardholders and foreign businesses and between foreign cardholders and U.S. businesses.

(b) Entities required to report will be contacted individually by BEA. Entities not contacted by BEA have no reporting responsibilities.

What to Report: The survey collects information on the credit, debit, charge, automated teller machine (ATM), and point of sale transactions of U.S. persons traveling abroad and foreign persons traveling in the United States.

How to Report: Reports can be filed using BEA's electronic reporting system at www.bea.gov/efile. Copies of the survey forms and instructions, which contain complete information on reporting procedures and definitions, may be obtained at the BEA Web site given above. Form BE-150 inquiries can be made by phone to BEA at (202) 606-5588 or by sending an email to be150help@bea.gov.

When to Report: Reports are due to BEA 45 days after the end of the fiscal quarter.

Paperwork Reduction Act Notice

This data collection has been approved by the Office of Management and Budget (OMB) in accordance with the Paperwork Reduction Act and assigned control number 0608-0072. An agency may not conduct or sponsor, and a person is not required to respond to, a collection of information unless it displays a valid control number assigned by OMB. Public reporting burden for this collection of information is estimated to average 16 hours per response. Send comments regarding this burden estimate to Director, Bureau of Economic Analysis (BE-1), U.S. Department of Commerce, Washington, DC 20230; and to the Office of Management and Budget, Paperwork Reduction Project 0608-0072, Washington, DC 20503.

Authority: 22 U.S.C. 3101-3108.

Dated: February 2, 2014.
Brian C. Moyer,
Director, Bureau of Economic Analysis.

[FR Doc. 2015-05412 Filed 3-6-15; 8:45 am]

BILLING CODE 3510-06-P